DEPARTMENT OF ENERGY

Federal Energy Regulatory Commission

[Docket No. IC20-17-000]

Commission Information Collection Activities (FERC-600); Comment Request; Extension

AGENCY: Federal Energy Regulatory Commission, DOE.

ACTION: Notice of information collection and request for comments.

SUMMARY: In compliance with the requirements of the Paperwork Reduction Act, the Federal Energy Regulatory Commission (Commission or FERC) is soliciting public comments on the proposed extension of currently approved information collection FERC-600 (Rules of Practice and Procedure: Complaint Procedures). In addition, the Commission is submitting the information collection to the Office of Management and Budget (OMB) for review. Any interested person may file comments directly with OMB and should address a copy of those comments to the Commission as explained below.

DATES: Comments on the collection of information are due July 31, 2020.

ADDRESSES: Send written comments on FERC-600 to OMB through www.reginfo.gov/public/do/PRAMain, Attention: Federal Energy Regulatory Commission Desk Officer. Please identify the OMB control number (1902-0180) in the subject line. Your comments should be sent within 30 days of publication of this notice in the Federal Register.

Please submit copies of your comments to the Commission (identified by Docket No. IC20-17-000) by either of the following methods:

• Efiling at the Commission's Website: http://www.ferc.gov/docs-filing/efiling.asp; or

• Mail/Express Services: Persons unable to file electronically may mail similar pleadings to the Federal Energy Regulatory Commission, 888 First Street NE, Washington, DC 20426. Hand-delivered submissions in docketed proceedings should be delivered to Health and Human Services, 12225 Wilkins Avenue, Rockville, Maryland 20852.

Instructions

OMB submissions must be formatted and filed in accordance with submission guidelines at www.reginfo.gov/public/do/PRAMain; Using the search function under the “Currently Under Review field,” select Federal Energy Regulatory Commission; click “submit” and select “comment” to the right of the subject collection.

FERC submissions must be formatted and filed in accordance with submission guidelines at: http://www.ferc.gov/help/submission-guide.asp. For user assistance, contact FERC Online Support by email at ferconlinesupport@ferc.gov, or by phone at: (866) 208-3676 (toll-free).

Docket: Users interested in receiving automatic notification of activity in this docket or in viewing/downloading comments and issuances in this docket may do so at http://www.ferc.gov/docs-filing/docs-filing.asp.

FOR FURTHER INFORMATION: Ellen Brown may be reached by email at DataClearance@FERC.gov and telephone at (202) 502-8663.

SUPPLEMENTARY INFORMATION:

Title: FERC-600, Rules of Practice and Procedure: Complaint Procedures.

OMB Control No.: 1902-0180.

Type of Request: Three-year extension of the FERC-600 information collection requirements with no changes to the current reporting and recordkeeping requirements.

Abstract: In accordance with 18 CFR 385.206, any person may file a complaint seeking Commission action against any other person alleged to be in violation of “any statute, rule, order, or other law administered by the Commission, or for any other alleged wrong over which the Commission may have jurisdiction.” Regulations at 18 CFR part 343 provide for additional procedures and information collection requirements for complaints and other filings that pertain to oil pipelines under the Interstate Commerce Act. The Commission received no comments in response to the Notice of Information Collection and Request for Comments published on April 24, 2020 (85 FR 23020).

Type of Respondents: Any person that files a complaint for Commission review and resolution.

Estimate of Annual Burden: ¹ The Commission estimates the annual public reporting burden and cost ² for the information collection as shown in the following table:

¹ Burden is defined as the total time, effort, or financial resources expended by persons to generate, maintain, retain, or disclose or provide information to or for a Federal agency. For further explanation of what is included in the information collection burden, refer to 5 Code of Federal Regulations 1320.3.

² The Commission staff thinks that the average respondent for this collection is similarly situated to the Commission, in terms of salary plus benefits. Based upon the FERC's 2019 average cost for salary plus benefits, the average hourly cost is $80/hour.

FERC-600—Rules of Practice and Procedure: Complaint Procedures
A | B | C | D | E | F
Number of respondents | Annual number of responses | Total number of responses (column A × column B) | Average burden hour and cost per response | Total annual burden hour and cost (column C × column D) | Cost per respondent (column E ÷ column A)
62 | 1 | 62 | 160 hrs.; $12,800 | 9,920 hrs.; $793,600 | $12,800

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: June 24, 2020.
Kimberly D. Bose,
Secretary.

[FR Doc. 2020-14177 Filed 6-30-20; 8:45 am]

BILLING CODE 6717-01-P